DEPARTMENT OF ENERGY

Office of Energy Efficiency and Renewable Energy

10 CFR Part 490

[Docket No. EE-RM-FCVT-03-001]

RIN 1904-AA98

Alternative Fuel Transportation Program; Private and Local Government Fleet Determination; Correction

AGENCY: Office of Energy Efficiency and Renewable Energy, Department of Energy (DOE).

ACTION: Notice of proposed rulemaking and public hearing; correction.

SUMMARY: This document corrects the preamble to a proposed rule published in the Federal Register of March 4, 2003, regarding the Private and Local Government Fleet Determination. This correction changes the room where the hearing will be held and also clarifies that the public hearing will begin at 9:30 a.m. and continue until 5 p.m. or until all public comments are received.

FOR FURTHER INFORMATION CONTACT: Mr. Dana V. O'Hara, Office of Energy Efficiency and Renewable Energy (EE-2G), U.S. Department of Energy, 1000 Independence Avenue, SW., Washington, DC 20585-0121; (202) 586-9171; e-mail: regulatory_info@afdc.nrel.gov.

Correction

In proposed rule FR Doc. 03-4991, appearing on page 10320, in the issue of Friday, March 4, 2003, the following corrections should be made:

1. On page 10320 in the DATES section, the second sentence is corrected to the following:

Oral views, data, and arguments may be presented at the public hearing, which will be held from 9:30 a.m. to 5 p.m., or until all comments are received, on May 7, 2003.

2. On page 10320 in the DATES section, the fourth sentence is corrected to the following:

The public hearing will be held at the U.S. Department of Energy, Forrestal Building, Room 1E-245, 1000 Independence Avenue, SW., Washington, DC 20585-0121.

Issued in Washington, DC, on April 30, 2003.
David K. Garman,
Assistant Secretary, Energy Efficiency and Renewable Energy.

[FR Doc. 03-10994 Filed 5-2-03; 8:45 am]

BILLING CODE 6450-01-P